GENERAL SERVICES ADMINISTRATION

Office of Management Services

Cancellation of an Optional Form by the U.S. Office of Personnel Management

AGENCY: Office of Management Services, GSA.

ACTION: Notice.

SUMMARY: The U.S. Office of Personnel Management cancelled the following Optional Form because of low usage:

OF 299, Request by Employee for Action on Allotment of Pay

DATES: Effective March 11, 2003.

FOR FURTHER INFORMATION CONTACT: Ms. Mary Beth Smith-Toomey, U.S. Office of Personnel Management, (202) 606-8358.

Dated: February 28, 2003.
Barbara M. Williams,
Deputy Standard and Optional Forms Management Officer, General Services Administration.

[FR Doc. 03-5667 Filed 3-10-03; 8:45 am]

BILLING CODE 6820-34-MXXXXXXXXXXXXXXXXXXXXXXXXXXXXXXXXXXXXXXXXXXXXXXX XXXXXXXXXXXXXXXXXXXXXXXXXXXXXXXXXXXXXXXXXXXXXXXXXXXXXX